DEPARTMENT OF ENERGY

Federal Energy Regulatory Commission

[Docket No. CP01-115-000]

Transwestern Pipeline Company; Notice of Application

April 2, 2001.

Take notice that on March 29, 2001, Transwestern Pipeline Company, P.O. Box 3330, Omaha, Nebraska 68103-0330, in Docket No. CP01-115-000 filed an application pursuant to Sections 7(b) and (c) of the Natural Gas Act for permission and approval for Transco to replace mainline compression facilities at four existing compressor stations in Arizona, all as more fully set forth in the application which is on file with the Commission and open to public inspection. This filing may be viewed on the web at http://www.ferc.fed.us/online/rims.htm (call 202-208-2222 for assistance).

Specifically, Transwestern proposes to abandon in place twelve existing drivers and compressors, totaling 49,500 horsepower, at Stations 1, 2, 3 and 4; and install operate a 41,500 ISO-rated horsepower turbine centrifugal compressor at each of the four stations. Transwestern also requests, to ensure a smooth transition to the new compressor units, to maintain the ability to operate the existing facilities up to six months after the installation of the new units. It is stated that the new units will require less maintenance activity than the existing units as well as operate more efficiently in flowing more gas through its system.

Transwestern states that result of the project it will be able to provide incremental capacity of approximately 150,000 Mcf per day on its mainline from Thoreau, New Mexico to California, increasing its total capacity to California to 1,240,000 Mcf per day. It is indicated that the proposed modification will enable it to meet the supply and demand imbalance in the California area. Transwestern proposes to place the facilities into service by June 1, 2002. Transwestern estimates the cost for the proposed construction to be approximately $93,300,000, to be financed with internally-generated funds. Transwestern also states that it is not at this time requesting rolled-in pricing for the new facilities, and understands that it will be at risk for the recovery of costs associated with the proposed modifications.

Any questions regarding the application should be directed to Keith L. Petersen, at (402) 398-7421.

There are two ways to become involved in the Commission's review of this project. First, any person wishing to obtain legal status by becoming a party to the proceedings for this project should, on or before April 16, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding.

Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination of non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Also, comments protests, and interventions may be filed electronically via the internet in lieu of paper. See, 18 CFT 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 01-8489 Filed 4-5-01; 8:45 am]

BILLING CODE 6717-01-M